DEPARTMENT OF HEALTH AND HUMAN SERVICES

[Document Identifier: HHS-OS-21435-60D]

Agency Information Collection Activities; Proposed Collection; Public Comment Request

AGENCY: HHS, Office of the Secretary.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting that ICR to OMB, OS seeks comments from the public regarding the burden estimate, below, or any other aspect of the ICR.

DATES: Comments on the ICR must be received on or before April 25, 2014.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS OS-21435-60D for reference.

Information Collection Request Title: HIPAA Covered Entity and Business Associate Pre-Audit Survey.

Abstract: This information collection consists of a survey of up to 1200 Health Insurance Portability and Accountability Act of 1996 (HIPAA) covered entities (health plans, health care clearinghouses, and certain health care providers) and business associates (entities that provider certain services to a HIPAA covered entity) to determine suitability for the Office for Civil Rights (OCR) HIPAA Audit Program. The survey will gather information about respondents to enable OCR to assess the size, complexity, and fitness of a respondent for an audit. Information collected includes, among other things, recent data about the number of patient visits or insured lives, use of electronic information, revenue, and business locations.

Need and Proposed Use of the Information: The Office for Civil Rights (OCR) is mandated to conduct periodic audits to assess the compliance of covered entities and business associates with the HIPAA Privacy, Security, and Breach Notification Rules. This information collection will enable OCR to assess the suitability of respondent covered entities and business associates for audits.

Likely Respondents: Respondents will include both HIPAA covered entities and business associates.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Number of respondents | Number of responses per respondent | Average burden per response (in hours) | Total burden hours
OCR Pre-Audit Survey | 1200 | 1 | 30/60 | 600
Total | 1200 | 1 | 30/60 | 600

OS specifically requests comments on (1) The necessity and utility of the proposed information collection for the proper performance of the agency's functions, (2) The accuracy of the estimated burden, (3) Ways to enhance the quality, utility, and clarity of the information to be collected, and (4) The use of automated collection techniques or other forms of information technology to minimize the information collection burden.

Darius Taylor,
Deputy, Information Collection Clearance Officer.

[FR Doc. 2014-03830 Filed 2-21-14; 8:45 am]

BILLING CODE 4153-01-P